ENVIRONMENTAL PROTECTION AGENCY

[EPA-HQ-RCRA-2015-0343; FRL-9933-56-OEI]

Information Collection Request Submitted to OMB for Review and Approval; Comment Request; Hazardous Remediation Waste Management Requirements (HWIR-Media) (Renewal)

AGENCY: Environmental Protection Agency (EPA).

ACTION: Notice.

SUMMARY: The Environmental Protection Agency has submitted an information collection request (ICR), “Hazardous Remediation Waste Management Requirements (HWIR-Media) (Renewal)” (EPA ICR No. 1775.07, OMB Control No. 2050-0161) to the Office of Management and Budget (OMB) for review and approval in accordance with the Paperwork Reduction Act (44 U.S.C. 3501 et seq.). This is a proposed extension of the ICR, which is currently approved through September 30, 2015. Public comments were previously requested via the Federal Register (80 FR 34156) on June 15, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 21, 2015.

ADDRESSES: Submit your comments, referencing Docket ID Number EPA-HQ-RCRA-2015-0343, to (1) EPA, either online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Peggy Vyas, Mail Code: 5303P, Environmental Protection Agency, 1200 Pennsylvania Ave. NW., Washington, DC 20460; telephone number: 703-308-5477; fax number: 703-308-8433; email address: vyas.peggy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Resource Conservation and Recovery Act (RCRA) requires EPA to establish a national regulatory program to ensure that hazardous wastes are managed in a manner protective of human health and the environment. Under this program, EPA regulates newly generated hazardous wastes, as well as hazardous remediation wastes (i.e., hazardous wastes managed during cleanup). Hazardous remediation waste management sites must comply with all parts of 40 CFR part 264 except subparts B, C, and D. In place of these requirements, they need to comply with performance standards based on the general requirement goals in these sections, which are codified at 40 CFR 264.1(j).

Under § 264.1(j), owners/operators of remediation waste management sites must develop and maintain procedures to prevent accidents. These procedures must address proper design, construction, maintenance, and operation of hazardous remediation waste management units at the site. In addition, owners/operators must develop and maintain a contingency and emergency plan to control accidents that occur. The plan must explain specifically how to treat, store, and dispose of the hazardous remediation waste in question, and must be implemented immediately whenever fire, explosion, or release of hazardous waste or hazardous waste constituents that could threaten human health or the environment. In addition, the Remedial Action Plan streamlines the permitting process for remediation waste management sites to allow cleanups to take place more quickly.

Form Numbers: None.

Respondents/affected entities: Private waste management facilities; State, Local, or Tribal governments.

Respondent's obligation to respond: Mandatory (RCRA § 3004(u)).

Estimated number of respondents: 215.

Frequency of response: One-time.

Total estimated burden: 6,953 hours (per year). Burden is defined at 5 CFR 1320.03(b).

Total estimated cost: $431,798 (per year), includes $39,356 annualized capital or operation & maintenance costs.

Changes in the Estimates: There is no change in the total estimated respondent burden compared with the ICR currently approved by OMB. There is an increase of $13,438 in operation & maintenance costs and this is due to a more accurate assessment of analyses costs.

Courtney Kerwin,
Acting Director, Collection Strategies Division.

[FR Doc. 2015-23554 Filed 9-18-15; 8:45 am]

BILLING CODE 6560-50-P